DEPARTMENT OF HOMELAND SECURITY

Transportation Security Administration

Extension Agency Information Collection Activity Under OMB Review: Corporate Security Review (CSR)

AGENCY: Transportation Security Administration (TSA), DHS.

ACTION: Notice.

SUMMARY: This notice announces that TSA has forwarded the new Information Collection Request (ICR) abstracted below to the Office of Management and Budget (OMB) for review and approval of an extension of the currently approved collection under the Paperwork Reduction Act. The ICR describes the nature of information collection and its expected burden. TSA published a Federal Register notice, with a 60-day comment period soliciting comments, of the following collection of information on October 2, 2005, 70 FR 66454. In response to this notice, TSA received comments from NiSource, a natural gas pipeline company operating in several states.

DATES: Send your comments by March 8, 2006. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Corporate Security Review (CSR).

Type of Request: Extension of a currently approved collection.

OMB Control Number: 1652-0036.

Forms(s): Corporate Security Review Form.

Affected Public: Surface transportation system owners and operators.

Abstract: The Aviation and Transportation Security Act (ATSA) (Pub. L. 107-71, 115 Stat. 597, Nov. 19, 2001) requires TSA to oversee the security of the nation's surface transportation system. Specifically, ATSA grants TSA authority to execute its responsibilities for:

• Enhancing security in all modes of transportation (49 U.S.C. 114(d));

• Assessing intelligence and other information in order to identify individuals who pose a threat to transportation security and to coordinate countermeasures with other Federal agencies to address such threats (49 U.S.C. 114(f)(1)-(5), (h)(1)-(4)); and

• Identifying and coordinating countermeasures to address threats to the transportation system (49 U.S.C. 114(f)(4)), including the authority to receive, assess, and distribute intelligence information related to transportation security; (49 U.S.C. 114(f)(1)-(4)).

To support these requirements, TSA assesses the current security practices in the surface transportation sector by way of site visits and interviews through its Corporate Security Review (CSR) program, one piece of a much larger domain awareness, prevention, and protection program in support of TSA's and Department of Homeland Security's missions. TSA is requesting continued approval for this collection to allow TSA to continue to ascertain minimum-security standards and identify coverage gaps, activities that are critical to its mission of ensuring transportation security. TSA assures respondents that the portion of their responses TSA deems Sensitive Security Information will be handled as such, as described in 49 CFR parts 15 and 1520.

Number of Respondents: 500.

Estimated Annual Burden Hours: An estimated 1,200 hours annually.

Issued in Arlington, Virginia, on January 25, 2006.
Lisa S. Dean,
Privacy Officer.

[FR Doc. E6-1526 Filed 2-3-06; 8:45 am]

BILLING CODE 4910-62-P